ENVIRONMENTAL PROTECTION AGENCY

[EPA-HQ-OAR-2022-0065; FRL-10141-01-OMS]

Information Collection Request Submitted to OMB for Review and Approval; Comment Request; NESHAP for Inorganic Arsenic Emissions From Primary Copper Smelters (Renewal)

AGENCY: Environmental Protection Agency (EPA).

ACTION: Notice.

SUMMARY: The Environmental Protection Agency (EPA) has submitted an information collection request (ICR), NESHAP for Inorganic Arsenic Emissions from Primary Copper Smelters (EPA ICR Number 1089.07, OMB Control Number 2060-0044), to the Office of Management and Budget (OMB) for review and approval in accordance with the Paperwork Reduction Act. This is a proposed extension of the ICR, which is currently-approved through October 31, 2022. Public comments were previously requested, via the Federal Register, on April 8, 2022, during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before September 12, 2022.

ADDRESSES: Submit your comments, referencing Docket ID Number EPA-HQ-OAR-2022-0065, online using https://www.regulations.gov/ (our preferred method), or by email to docket@epa.gov; or by mail to: EPA Docket Center, Environmental Protection Agency, Mail Code 28221T, 1200 Pennsylvania Ave. NW, Washington, DC 20460.

For additional delivery options and information about EPA's dockets, visit https://www.epa.gov/dockets. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: Supporting documents, which explain in detail the information that the EPA will be collecting, are available in the public docket for this ICR. The docket can be viewed online at https://www.regulations.gov, or in person at the EPA Docket Center, WJC West Building, Room 3334, 1301 Constitution Ave. NW, Washington, DC. The telephone number for the Docket Center is 202-566-1744. For additional information about EPA's public docket, visit: http://www.epa.gov/dockets.

Abstract: The National Emission Standards for Hazardous Air Pollutants (NESHAP) for Inorganic Arsenic Emissions from Primary Copper Smelters (40 CFR part 61, subpart O) were proposed on July 20, 1983, and promulgated on August 4, 1986. These regulations apply to existing facilities and new facilities where the total arsenic charging rate for the copper converter department averaged over a 1-year period is greater than 75 kg/hr (165 lb/hr), as determined under 40 CFR 61.174(f). New facilities include those that either commenced construction, or reconstruction, after the date of proposal. This information is being collected to assure compliance with 40 CFR part 61, subpart O.

Form Numbers: None.

Respondents/affected entities: Primary copper smelters.

Respondent's obligation to respond: Mandatory (40 CFR part 61, subpart O).

Estimated number of respondents: 3 (total).

Frequency of response: Quarterly, annual.

Total estimated burden: 6,260 hours (per year). Burden is defined at 5 CFR 1320.3(b).

Total estimated cost: $753,000 (per year), which includes $1,500 in annualized capital/startup and/or operation & maintenance costs.

Changes in the Estimates: There is an increase in burden from the most-recently approved ICR as currently identified in the OMB Inventory of Approved Burdens. The increase is due to revisions to the labor burden associated with certain tasks including performing monthly Method 108A sample collection, calculations, and the time to record results. This ICR adjusts the burden for these activities based on comments received from industry and incorporates additional burden hours. The comments reflected additional time to complete activities and resulted in an increase in labor burden.

Courtney Kerwin,
Director, Regulatory Support Division.

[FR Doc. 2022-17395 Filed 8-11-22; 8:45 am]

BILLING CODE 6560-50-P